DEPARTMENT OF THE INTERIOR

Fish and Wildlife Service

50 CFR Parts 20 and 21

RIN 1018-AI07

Migratory Bird Hunting and Permits; Regulations for Managing Harvest of Light Goose Populations; Extension of Comment Period

AGENCY: Fish and Wildlife Service, Interior.

ACTION: Proposed rule; extension of comment period.

SUMMARY: The U.S. Fish and Wildlife Service (Service) is extending the comment period on a proposed rule published in the Federal Register on October 12, 2001. The rule would implement our preferred alternative identified in a Draft Environmental Impact Statement (DEIS) on light goose management. The rule would authorize new methods of take for light goose hunting. In addition, the rule would revise the regulations for the management of overabundant light goose populations and modifies the conservation order that will increase take of such populations.

DATES: Written comments on the proposed rule must be received on or before January 25, 2002.

ADDRESSES: Comments on the proposed rule should be mailed to Chief, Division of Migratory Bird Management, U.S. Fish and Wildlife Service, Department of the Interior, ms 634—ARLSQ, 1849 C Street NW., Washington, DC 20240. Requests for copies of the DEIS should be mailed to the above address. Copies of the DEIS can be downloaded from the Division of Migratory Bird Management web site at http://migratorybirds.fws.gov/issues/snowgse/tblcont.html. Comments on the DEIS should be sent to the above address. Alternatively, comments may be submitted electronically to the following address: white_goose_eis@fws.gov.

FOR FURTHER INFORMATION CONTACT: Jon Andrew, Chief, Division of Migratory Bird Management, (703) 358-1714.

SUPPLEMENTARY INFORMATION: On September 28, 2001 (66 FR 49668), and October 5, 2001 (66 FR 51274), notices were published in the Federal Register announcing the availability of our DEIS on light goose management. The DEIS evaluates four management alternatives to address habitat destruction and agricultural depredations caused by light geese on various breeding, migration, and wintering areas: (1) No Action or a continuation to manage light goose populations through existing wildlife management policies and practices (Alternative A); (2) modify harvest regulation options and refuge management (Alternative B) (PREFERRED); (3) implement direct agency control of light goose populations on migration and wintering areas in the U.S. (Alternative C); (4) seek direct light goose population control on breeding grounds in Canada (Alternative D). Our preferred alternative (Alternative B) modifies existing light goose hunting regulations to expand methods of take during normal hunting season frameworks. In addition, we propose to create a conservation order to allow take of light geese outside of normal hunting season frameworks. On October 12, 2001 (66 FR 52077) we published a proposed rule in the Federal Register that would implement our preferred alternative. On November 7, 2001 (66 FR 56266) we published a correction in the Federal Register that added New Jersey to the list of States eligible to implement special light goose regulations. We inadvertently omitted New Jersey from the list of States contained in the proposed rule.

We have received a request to extend the comment period on the DEIS. The Service invites careful consideration by all parties, and welcomes serious scrutiny from those committed to the long-term conservation of migratory birds. Therefore, to facilitate substantive public review, we are also extending the comment period on the proposed rule from December 11, 2001, to January 25, 2002. Extension of the comment period on the DEIS is made through a separate notice in this issue of the Federal Register.

In order to be considered, electronic submission of comments must include your name and postal mailing address; we will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

Dated: November 21, 2001.
Joseph E. Doddridge,
Assistant Secretary for Fish and Wildlife and Parks.

[FR Doc. 01-30411 Filed 12-7-01; 8:45 am]

BILLING CODE 4310-55-P